DEPARTMENT OF COMMERCE

International Trade Administration

A-412-801

Antifriction Bearings (Other Than Tapered Roller Bearings) and Parts Thereof from the United Kingdom; Amended Final Results of Antidumping Duty Administrative Review Pursuant to Final Court Decision

AGENCY: Import Administration, International Trade Administration, Department of Commerce.

SUMMARY: On January 9, 2001, in response to its action in FAG Italia S.p.A, Barden Corporation (U.K.) Limited, The Barden Corporation and FAG Bearing Corporation v. the United States, Court No. 98-07-02528, Slip. Op. 00-95 (CIT August 4, 2000), the Court of International Trade (CIT) affirmed the Department of Commerce's (the Department's) remand determination affecting final assessment rates for the administrative review of the antidumping duty order on antifriction bearings (other than tapered roller bearings) and parts thereof from the United Kingdom for the period of review May 1, 1996, through April 30, 1997. The merchandise covered by this review is ball bearings and parts thereof and cylindrical roller bearings and parts thereof. Because the appeals have been dismissed and there is now a final and conclusive court decision in this action, we are amending our final results of the review and we will instruct U.S. Customs and Border Protection to liquidate entries subject to this review.

EFFECTIVE DATE: May 3, 2005.

FOR FURTHER INFORMATION CONTACT: Dmitry Vladimirov or Richard Rimlinger, AD/CVD Operations, Office 5, Import Administration, U.S. Department of Commerce, 14th Street and Constitution Avenue, NW, Washington, DC 20230; telephone: (202) 482-0665 or (202) 482-4477, respectively.

SUPPLEMENTARY INFORMATION:

Background

On June 18, 1998, the Department published Antifriction Bearings (Other Than Tapered Roller Bearings) and Parts Thereof from France, Germany, Italy, Japan, Romania, Singapore, Sweden, and the United Kingdom: Final Results of Antidumping Duty Administrative Reviews, 63 FR 33320 (June 18, 1998), as amended by Antifriction Bearings (Other Than Tapered Roller Bearings) and Parts Thereof from France, Germany, Italy, Japan, Romania, Singapore, Sweden, and the United Kingdom: Amended Final Results of Antidumping Duty Administrative Reviews, 63 FR 40878 (July 31, 1998) (collectively AFBs 8), which covered the period of review (POR) May 1, 1996, through April 30, 1997. The classes or kinds of merchandise covered by these reviews are ball bearings and parts thereof (BBs), cylindrical roller bearings and parts thereof, and spherical plain bearings and parts thereof.

FAG Italia S.p.A., The Barden Corporation (U.K.) Ltd., The Barden Corporation and FAG Bearings Corporation appealed the Department's decisions in AFBs 8. In FAG Italia S.p.A., The Barden Corporation (U.K.) Ltd., The Barden Corporation and FAG Bearings Corporation v. United States, 110 F. Supp. 2d 1055 (CIT August 4, 2000) (FAG-Barden), the CIT ordered a remand concerning the margin the Department determined for BBs from the United Kingdom covered by AFBs 8.

In FAG-Barden, the CIT remanded AFBs 8 to the Department to disregard The Torrington Company's below-cost sales allegation and to recalculate the dumping margin without regard to the results of the below-cost sales test. This remand affected Barden Corporation (U.K.) Limited, The Barden Corporation, and FAG Bearings Corporation (collectively, Barden) directly with respect to the antidumping duty order on BBs from the United Kingdom for the POR.

On November 2, 2000, the Department filed its final results of redetermination with the CIT. See Final Results of Redetermination Pursuant to Court Remand in FAG-Barden (November 2, 2000) (Remand Results). In its redetermination, the Department disregarded The Torrington Company's below-cost allegation and recalculated the dumping margin with respect to Barden and, as a result, Barden's weighted-average margin for the POR changed from 6.63 percent to 5.06 percent with respect to BBs. On January 9, 2001, the CIT affirmed the Department's Remand Results in their entirety. See FAG Italia S.p.A, Barden Corporation (U.K.) Limited, The Barden Corporation and FAG Bearing Corporation v. the United States, Court No. 98-07-02528, Slip. Op. 01-1 (CIT January 9, 2001).

FAG Italia S.p.A, Barden Corporation (U.K.) Limited, The Barden Corporation, and FAG Bearing Corporation (the plaintiffs) and The Torrington Corporation (defendant-intervenor) appealed the CIT's remand affirmation but later filed with the United States Court of Appeals for the Federal Circuit (CAFC) motions to sever and dismiss their appeals voluntarily.

On February 12, 2004, the CAFC granted the plaintiffs' and the defendant-intervenor's motions to dismiss their appeals.

As there is now a final and conclusive court decision with respect to the company affected by this remand order directly, we are amending our final results of review for this company and we will instruct U.S. Customs and Border Protection (CBP) to liquidate the relevant entries subject to this review in accordance with our remand results.

Assessment of Duties

We are now amending the final results of the 1996-1997 administrative review of the antidumping duty order on BBs from the United Kingdom to reflect a revised weighted-average margin for Barden. We determine that a revised weighted-average margin of 5.06 percent exists for Barden on BBs from the United Kingdom for the period May 1, 1996, through April 30, 1997.

Accordingly, the Department will determine and CBP will assess appropriate antidumping duties on entries of the subject merchandise produced by the affected company. Individual differences between U.S. price and foreign market value may vary from the above percentage. The Department will issue assessment instructions to CBP within 15 days of publication of this notice.

We are issuing and publishing this notice in accordance with sections 751(a)(1) and 777(i)(1) of the Tariff Act of 1930, as amended.

Dated: April 26, 2005.
Barbara E. Tillman
Acting Assistant Secretary for Import Administration.

[FR Doc. E5-2144 Filed 5-2-05; 8:45 am]

BILLING CODE 3510-DS-S